DEPARTMENT OF HEALTH AND HUMAN SERVICES

Health Resources and Services Administration

Administration for Children and Families

Agency Information Collection Activities: Submission to OMB for Review and Approval; Public Comment Request

AGENCY: Administration for Children and Families, Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than June 19, 2014.

ADDRESSES: Submit your comments, including the Information Collection Request Title, to the desk officer for HRSA, either by email to OIRA_submission@omb.eop.gov or by fax to (202) 395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: Maternal, Infant, and Early Childhood Home Visiting Program Information System. OMB No. 0915-0357—Revision.

Abstract: On March 23, 2010, the President signed into law the Patient Protection and Affordable Care Act of 2010 (Pub. L. 111-148), historic and transformative legislation designed to make quality, affordable health care available to all Americans, reduce costs, improve health care quality, enhance disease prevention, and strengthen the health care workforce. Through a provision authorizing the creation of the Maternal, Infant, and Early Childhood Home Visiting (MIECHV) Program, the Act responds to the diverse needs of children and families in communities at risk and provides an unprecedented opportunity for collaboration and partnership at the federal, state, and community levels to improve health and development outcomes for at-risk children through voluntary evidence-based home visiting programs. The MIECHV Program is designed: (1) To strengthen and improve the programs and activities carried out under Title V of the Social Security Act; (2) to improve coordination of services for at-risk communities; and (3) to identify and provide comprehensive services to improve outcomes for families who reside in at-risk communities.

HRSA and the Administration for Children and Families (ACF) collaborate to implement the MIECHV programs. HRSA administers grants to states, jurisdictions, and eligible non-profits (State MIECHV program) and ACF administers grants to Indian tribes (including consortia of tribes), tribal organizations, and urban Indian organizations (Tribal MIECHV program).

The Social Security Act, Title V, Section 511 (42 U.S.C. 711), as added by the Patient Protection and Affordable Care Act of 2010 (Pub. L. 111-148), requires that state and tribal MIECHV grantees collect data to measure improvements for eligible families in six specified areas (referred to as “benchmark areas”) that encompass the major goals for the program: (1) Improved maternal and newborn health; (2) prevention of child injuries, child abuse, neglect, or maltreatment, and reduction of emergency room visits; (3) improvement in school readiness and achievement;(4) reduction in crime or domestic violence; (5) improvements in family economic self-sufficiency; and (6) improvements in the coordination and referrals for other community resources and supports.

The Supplemental Information Request for the Submission of the Updated State Plan for a State Home Visiting Program (SIR), published on February 8, 2011, further listed a variety of constructs under each benchmark area for which state MIECHV grantees were to select and submit relevant performance measures. Per Section 511(d)(1)(B)(i) of the legislation, no later than 30 days after the end of the third year of the program, grantees are required to demonstrate improvement in at least four of the six benchmark areas. Funding opportunity announcements, notices of award, and program guidance documents for competitive, formula, and non-profit grants also require annual reporting on the constructs under each benchmark area, as well as on demographic, service utilization, budgetary, and other administrative data related to program implementation.

Tribal MIECHV grantees must also report annually on demographic, service utilization, budgetary, and other administrative data related to program implementation. In addition, tribal MIECHV grantees must propose a plan for meeting the benchmark requirements specified in the legislation and must report on improvement on constructs under each benchmark area at the end of Year 4 and Year 5 of their 5-year grants.

Need and Proposed Use of the Information: The data collected from the proposed Home Visiting (HV) forms will be used to track state and tribal MIECHV grantees' progress in demonstrating improvement under each benchmark area and provide an overall picture of the population being served. The proposed data collection forms are as follows:

HV Form 1—Demographic and Service Utilization Data for Enrollees and Children—This form requests data to determine the unduplicated number of participants and of participant groups by primary insurance coverage. This form also requests data on the demographic characteristics of program participants such as race, ethnicity, and income. The form is used by both state and tribal MIECHV grantees. As this form has current approval from OMB and is in use, no changes are proposed.

HV Form 2—State Grantee Performance Measures: Grantees have already selected relevant performance measures for the legislatively identified benchmark areas. This form provides a template for grantees to report aggregate data on their selected performance measures. This form is used by state MIECHV grantees only. As this form has current approval from OMB and is in use, no changes are proposed.

HV Form 3—Tribal Grantee Performance Measures: To show quantifiable, measurable improvement in benchmark areas, each tribal MIECHV grantee must submit data demonstrating improvement on constructs in each of the six benchmark areas. The purpose of the proposed collection on HV Form 3 will be to track tribal MIECHV grantees' progress in demonstrating improvement under each benchmark area. This form will be used by tribal MIECHV grantees only. As this form was not included in the previous submission to OMB, this form is new to the information system.

Likely Respondents: HV Form 1 is used by all MIECHV Program grantees. HV Form 2 is used by the states, the District of Columbia, Puerto Rico, Guam, the Virgin Islands, the Northern Mariana Islands, American Samoa, and non-profit organizations providing services within states through the State MIECHV Program. HV Form 3 will be used by tribal MIECHV grantees.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
HV Form 1: Demographic and Service Utilization Data for Enrollees and Children | 81 ¹ (All MIECHV grantees, including tribal grantees) | 1 | 81 (All MIECHV grantees, including tribal grantees) | 731 | 59, 211
HV Form 2: Grantee Performance Measures | 56 ² (state MIECHV grantees) | 1 | 56 (state MIECHV grantees) | 313 | 17, 528
HV Form 3: Tribal-Grantee Performance Measures | 25 ³ (tribal MIECHV grantees) | 1 | 25 (tribal MIECHV grantees) | 475 | 11,875
Total | 81 |  | 81 |  | 88, 614
¹ In addition to 56 jurisdictions and non-profit organizations, it is estimated that 25 tribal MIECHV program grantees will utilize Form 1 to report on demographic and service utilization data for all participant families.
² This number does not include tribal MIECHV program grantees.
³ This number reflects the number of tribal MIECHV grantees.

Dated: May 12, 2014.
Bahar Niakan,
Director, Division of Policy and Information Coordination, Health Resources and Services Administration.
Linda K. Smith,
Deputy Assistant Secretary and Inter-Departmental Liaison for Early Childhood Development, Administration for Children and Families.

[FR Doc. 2014-11686 Filed 5-19-14; 8:45 am]

BILLING CODE 4165-15-P